NATIONAL AERONAUTICS AND SPACE ADMINISTRATION

[Notice: (11-061)]

NASA Advisory Council; Commercial Space; Meeting

AGENCY: National Aeronautics and Space Administration.

ACTION: Notice of meeting.

SUMMARY: In accordance with the Federal Advisory Committee Act, Public Law 92-463, as amended, the National Aeronautics and Space Administration announces a meeting of the Commercial Space Committee of the NASA Advisory Council.

DATES: Tuesday August 2, 2011, 8:15 a.m. to 2:45 p.m., Local Time.

ADDRESSES: NASA Ames Conference Center, Building 152, Dailey Road, NASA Research Park, NASA Ames Research Center (ARC), Moffett Field, CA 95035-1000. Please see signs for exact room locations.

FOR FURTHER INFORMATION CONTACT: Mr. John Emond, Office of Chief Technologist, National Aeronautics and Space Administration, Washington, DC 20546, (202) 358-1686, Fax: 202-358-3878, john.l.emond@nasa.gov.

SUPPLEMENTARY INFORMATION: This Commercial Space Committee meeting will continue its focus on NASA's implementation of programs to enable development of commercially viable space transportation capabilities. The Committee will also review other elements of commercial space endeavors such as commercial payload development. During part of the agenda, the Commercial Space Committee will have a joint session with the NASA Advisory Council's Space Operations Committee and Exploration Committee regarding Commercial Space.

The meeting will be open to the public up to the seating capacity of the room. It is imperative that the meeting be held on this date to accommodate the scheduling priorities of the key participants. Attendees will be required to comply with NASA security procedures, including the presentation of a valid picture ID. U.S. citizens will need to show valid, officially-issued picture identification such as a driver's license to enter into the NASA Research Park, and must state they are attending the NASA Advisory Council Commercial Space Committee session in NASA Building 152. Permanent Resident Aliens will need to show residency status (valid green card) and a valid, officially issued picture identification such as a driver's license and must state they are attending the Commercial Space Committee session in NASA Building 152. All non-U.S. citizens must submit, no less than 10 working days prior to the meeting, their name, current address, citizenship, company affiliation (if applicable) to include address, telephone number, and their title, place of birth, date of birth, U.S. visa information to include type, number and expiration date, U.S. Social Security Number (if applicable) to John Emond, Executive Secretary, Commercial Space Committee, Innovative Partnerships Office, Office of Chief Technologist, NASA Headquarters, Washington, DC. For questions, please contact Emond at john.l.emond@nasa.gov or by telephone at (202) 358-1686 or fax: (202) 358-3878.

Dated: June 30, 2011.
P. Diane Rausch,
Advisory Committee Management Office, National Aeronautics and Space Administration.

[FR Doc. 2011-17266 Filed 7-8-11; 8:45 am]

BILLING CODE P